BUREAU OF CONSUMER FINANCIAL PROTECTION

Agency Information Collection Activities: Submission for OMB Review; Comment Request

AGENCY: Bureau of Consumer Financial Protection.

ACTION: Notice and request for comment.

SUMMARY: The Bureau of Consumer Financial Protection (Bureau), as part of its continuing effort to reduce paperwork and respondent burden, invites the general public and other Federal agencies to take this opportunity to comment on proposed information collections, as required by the Paperwork Reduction Act of 1995. The Bureau is soliciting comments concerning its proposed information collection titled, “Clearance for Financial Education Program Evaluation.” The proposed collection has been submitted to the Office of Management and Budget (OMB) for review and approval. A copy of the submission, including copies of the proposed collection and supporting documentation, may be obtained by contacting the agency contact listed below.

DATES: Written comments are encouraged and must be received on or before January 7, 2013 to be assured of consideration.

ADDRESSES: You may submit comments, identified by agency name and proposed collection title, “Clearance for Financial Education Program Evaluation” to:

• Agency contact: Consumer Financial Protection Bureau (Attention: PRA Office), 1700 G Street NW., Washington, DC 20552; (202) 435-9011; and CFPB_Public_PRA@cfpb.gov.

• OMB reviewer: Shagufta Ahmed, Office of Management and Budget, New Executive Office Building, Room 10235, Washington, DC 20503; (202) 395-7873.

FOR FURTHER INFORMATION CONTACT: Requests for additional information should be directed to Consumer Financial Protection Bureau (Attention: PRA Office), 1700 G Street NW., Washington, DC 20552, (202) 435-9011, or through the internet at CFPB_Public_PRA@cfpb.gov.

SUPPLEMENTARY INFORMATION: Title: Clearance for Financial Education Program Evaluation.

OMB Control Number: 3170-XXXX.

Type of Review: New collection.

Abstract: Under the Dodd-Frank Wall Street Reform and Consumer Protection Act, Public Law No. 111-203, the Bureau's Office of Financial Education (OFE) is responsible for (1) developing and implementing a strategy to improve the financial literacy of consumers that includes measurable goals and objectives, in consultation with the Financial Literacy and Education Commission, consistent with the National Strategy for Financial Literacy; and (2) developing and implementing initiatives intended to educate and empower consumers to make better informed financial decisions. Together with the CFPB's Office of Research, OFE is also responsible for conducting “research related to consumer financial education and counseling.” The proposed collection will focus on financial education program elements related to increasing household non-retirement savings and/or reducing financial distress.

The CFPB expects to collect quantitative data through in-person and telephone surveys. The information collected through quantitative evaluation methods will increase OFE's understanding of what financial education program elements can improve financial decision making skills and outcomes for consumers.

The core objective of the data collection is to measure the effectiveness of selected financial education programs. This data will provide useful information on evidence-based practices that can be used to improve financial education programs nationwide, leading to better financial decision-making outcomes for adult consumers.

Affected Public: Individuals.

Estimated Total Annual Burden Hours: Below is an estimate of the aggregate burden hours for the evaluation of two (2) financial education programs.

Process | Number of respondents | Number of responses per respondent | Average burden per response (min) | Total burden (hours)
In-person baseline surveys | 1000 | 1 | 10 | 166.7
Phone-based follow-up surveys | 800 | 1 | 40 | 533.3
Total |  |  |  | 700

An agency may not conduct or sponsor, and a respondent is not required to respond to, an information collection unless the information collection displays a currently valid OMB control number.

The Bureau issued a 60-day Federal Register notice on January 19, 2012, [77 FR 2684]. Comments were solicited and continue to be invited on: (a) Whether the collection of information is necessary for the proper performance of the functions of the Bureau, including whether the information shall have practical utility; (b) the accuracy of the Bureau's estimate of the burden of the collection of information, including the validity of the methodology and the assumptions used; (c) ways to enhance the quality, utility, and clarity of the information to be collected; and (d) ways to minimize the burden of the collection of information on respondents, including through the use of automated, electronic, mechanical, or other technological collection techniques or other forms of information technology.

Dated: November 28, 2012.
Chris Willey,
Chief Information Officer, Bureau of Consumer Financial Protection.

[FR Doc. 2012-29437 Filed 12-5-12; 8:45 am]

BILLING CODE 4810-AM-P